INTERNATIONAL TRADE COMMISSION

[Investigation No. 337-TA-1079]

Certain Shaving Cartridges, Components Thereof and Products Containing Same; Commission Determination Not To Review an Initial Determination Terminating Investigation Based on a Settlement Agreement; Termination of the Investigation

AGENCY: U.S. International Trade Commission.

ACTION: Notice.

SUMMARY: Notice is hereby given that the U.S. International Trade Commission has determined not to review an initial determination (“ID”) (Order No. 7) of the presiding administrative law judge (“ALJ”), granting a joint motion to terminate the above-captioned investigation based on a settlement agreement. The investigation is terminated in its entirety.

FOR FURTHER INFORMATION CONTACT: Cathy Chen, Esq., Office of the General Counsel, U.S. International Trade Commission, 500 E Street SW, Washington, DC 20436, telephone (202) 205-2392. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on October 30, 2017, based on a complaint filed by The Gillette Company LLC of Boston, Massachusetts (“Gillette”). 82 FR 50158 (Oct. 30, 2017). The complaint, as supplemented, alleges violations of section 337 of the Tariff Act of 1930, as amended, 19 U.S.C. 1337, in the importation into the United States, the sale for importation, and the sale within the United States after importation of certain shaving cartridges, components thereof and products containing same by reason of infringement of U.S. Patent No. 9,193,077 (“the '077 patent”). The complaint further alleges that an industry in the United States exists as required by 19 U.S.C. 1337(a)(2). The notice of investigation named Edgewell Personal Care Company of Chesterfield, Missouri; Edgewell Personal Care Brands, LLC of Shelton, Connecticut; Edgewell Personal Care, LLC of Shelton, Connecticut; Schick Manufacturing, Inc. of Shelton, Connecticut; and Schick (Guangzhou) Co., Limited of Guangzhou, China, as respondents.

On January 19, 2018, Gillette and respondents filed a joint motion to terminate the investigation in its entirety on the basis of a settlement agreement. The ALJ issued the subject ID granting the motion on January 23, 2018. The ALJ found that the motion complies with Commission Rules and termination of the investigation will not adversely affect the public interest. No petitions for review were filed.

The Commission has determined not to review the ID.

The authority for the Commission's determination is contained in section 337 of the Tariff Act of 1930, as amended, 19 U.S.C. 1337, and in Part 210 of the Commission's Rules of Practice and Procedure, 19 CFR part 210.

By order of the Commission.
Issued: February 5, 2018.
Lisa R. Barton,
Secretary to the Commission.

[FR Doc. 2018-02578 Filed 2-8-18; 8:45 am]

BILLING CODE 7020-02-P